FEDERAL COMMUNICATIONS COMMISSION

[GN Docket No. 17-208; FRS 17381]

Meeting of the Communications Equity and Diversity Council

AGENCY: Federal Communications Commission.

ACTION: Notice.

SUMMARY: In accordance with the Federal Advisory Committee Act, this notice announces the July 22, 2022, meeting of the Federal Communications Commission's (Commission) Communications Equity and Diversity Council (CEDC or Council).

DATES: Friday, July 22, 2022, from 10 a.m. ET to 4 p.m. ET.

ADDRESSES: The CEDC meeting will be held virtually and be available to the public for viewing via the internet at http://www.fcc.gov/live.

FOR FURTHER INFORMATION CONTACT: Jamila Bess Johnson, Designated Federal Officer (DFO) of the CEDC, (202) 418-2608, Jamila-Bess.Johnson@fcc.gov; Rashann Duvall, Co-Deputy DFO of the CEDC, (202) 418-1438, Rashann.Duvall@fcc.gov; or, Keyla Hernandez-Ulloa, Co-Deputy DFO of the CEDC, (202) 418-0965, Keyla.Hernandez-Ulloa@fcc.gov.

SUPPLEMENTARY INFORMATION: Proposed Agenda: The agenda for the meeting will include a report of each of the CEDC working groups. The Digital Empowerment and Inclusion Working Group will present a report including recommendations for addressing digital discrimination and other barriers that impact equitable access to broadband and other emerging technology in under-served and under-connected communities. The Innovation and Access Working Group will report on its activities to recommend solutions to reduce entry barriers and encourage ownership and management of media, digital, communications services and next-generation technology properties and start-ups to encourage viewpoint diversity by a broad range of voices. The Diversity and Equity Working Group will report on its progress in examining how the FCC can affirmatively advance equity, civil rights, racial justice, and equal opportunity in the telecommunications industry to address inequalities in workplace employment policies and programs. This agenda may be modified at the discretion of the CEDC Chair and the DFO.

The CEDC meeting will be accessible to the public on the internet via live feed from the Commission's web page at www.fcc.gov/live. Members of the public may submit questions during the meeting to livequestions@fcc.gov. Oral statements at the meeting by parties or entities not represented on the CEDC will be permitted to the extent time permits and at the discretion of the CEDC Chair and the DFO.

Members of the public may submit comments to the CEDC using the FCC's Electronic Comment Filing System, ECFS, at www.fcc.gov/ecfs. Comments to the CEDC should be filed in GN Docket No. 17-208.

Open captioning will be provided for this event. Other reasonable accommodations for persons with disabilities are available upon request. Requests for such accommodations should be submitted via email to fcc504@fcc.gov or by calling the Consumer and Governmental Affairs Bureau at (202) 418-0530 (voice). Such requests should include a detailed description of the accommodation needed. In addition, please include a way for the Commission to contact the requester if more information is needed to fulfill the request. Please allow at least five days' notice; last minute requests will be accepted but may not be possible to accommodate.

Federal Communications Commission.
Thomas Horan,
Chief of Staff, Media Bureau.

[FR Doc. 2022-13129 Filed 6-16-22; 8:45 am]

BILLING CODE 6712-01-P